DEPARTMENT OF COMMERCE

Bureau of Industry and Security

[Docket No.: 06-BIS-17]

Action Affecting Export Privileges; Mr. Qing Chang Jiang; In the Matter of: Mr. Qing Chang Jiang, 10677 C Rosewood Road, Cupertino, CA 95014, Respondent; Order Relating to Qing Chang Jiang

The Bureau of Industry and Security, U.S. Department of Commerce (“BIS”) has initiated an administrative proceeding against Qing Chang Jiang (“Jiang”) pursuant to Section 766.3 of the Export Administration Regulations (currently codified at 15 CFR Parts 730-774 (2007)) (the “Regulations”),¹ and Section 13(c) of the Export Administration Act of 1979, as amended (50 U.S.C. app. 2401-2420 (2000)) (the “Act”),² through issuance of a charging letter to Jiang that alleged that Jiang committed 3 violations of the Regulations. Specifically, the charges are:

¹ The violations alleged to have been committed occurred in 2001 and 2002. The Regulations governing the violations at issue are found in the 2001-2002 versions of the Code of Federal Regulations (15 CFR parts 730-774 (2001-2002)). The 2007 Regulations establish the procedures that apply to this matter.

² Since August 21, 2001, the Act has been in lapse and the President, through Executive Order 13222 of August 17, 2001 (3 CFR, 2001 Comp. 783 (2002)), as extended by successive Presidential Notices, the most recent being that of August 3, 2006 (71 FR 44,551 (Aug. 7, 2006)), has continued the Regulations in effect under the International Emergency Economic Power Act (50 U.S.C. 1701-1706 (2000)).

Charge 1: 15 CFR 764.2(d)—Conspiracy to Export Microwave Amplifiers to China without the required Department of Commerce License.

Beginning in or about September 2001 and continuing into or about May 2002, Jiang conspired and acted in concert with others, known and unknown, to bring about or to do an act that constitutes a violation of the Regulations. Specifically, Jiang conspired to export microwave amplifiers from the United States to the People's Republic of China (“China”) without the required Department of Commerce license. The goal of the conspiracy was to obtain microwave amplifiers on behalf of a Chinese end-user and to export those microwave amplifiers to China. In furtherance of the conspiracy, Jiang acquired the microwave amplifiers from a U.S. company and then exported them from the United States to China. The microwave amplifiers were items subject to the Regulations and were classified under export control classification number (“ECCN”) 3A001. Contrary to Section 742.4 of the Regulations, no Department of Commerce license was obtained for the export of amplifiers from the United States to China. In do doing, Jiang committed one violation of Section 764.2(d) of the Regulations.

Charge 2: 15 CFR 764.2(a): Exporting Microwave Amplifiers without the required Department of Commerce License.

On or about May 22, 2002, Jiang engaged in conduct prohibited by the Regulations by exporting microwave amplifiers, items subject to the Regulations and classified under ECCN 3A001, from the Untied States to China without obtaining a license from the Department of Commerce as required by Section 742.4 of the Regulations. In so doing, Jiang committed one violation of Section 764.2(a) of the Regulations.

Charge 3: 15 CFR 764.2(e): Acting with knowledge that a violation of the regulations would occur.

In connection with the transaction referenced about, Jiang ordered or transferred microwave amplifiers that were to be exported from the United States with knowledge that a violation of the Regulations would occur. Specifically, Jiang has knowledge that a license was required for the export of Jiang was advised by an individual in China that the items in question were classified as ECCN 3A001 and subject to U.S. export regulations. Furthermore, Jiang had knowledge of the Regulations, as Jiang has met with officials from BIS on several occasions to discuss the Regulations and the export of microwave amplifiers to China. In addition, Jiang submitted an export application to the Department of Commerce for the microwave amplifiers described above and exported those amplifiers during the pendency of that application. As such, Jiang, at all relevant times, knew that the items required a license if exported to China and that no such license would be obtained. In so doing, Jiang committed one violation of Section 764.2(e) of the Regulations.

Whereas, BIS and Jiang have entered into a Settlement Agreement pursuant to Section 766.18(b) of the Regulations whereby they agreed to settle this matter in accordance with the terms and conditions set forth therein, and

Whereas, I have approved of the terms of such Settlement Agreement;

It Is Therefore Ordered:

First, that a civil penalty of $17,000 is assessed against Jiang, of which $500 shall be paid to the U.S. Department of Commerce not later than November 1, 2007; $500 shall be paid to the U.S. Department of Commerce not later than February 1, 2008; $5,000 shall be paid to the U.S. Department of Commerce not later than May 1, 2008; and the balance of $11,000 shall be paid to the U.S. Department of Commerce not later than August 1, 2008. Payment shall be made in the manner specified in the attached instructions.

Second, that, pursuant to the Debt Collection Act of 1982, as amended (31 U.S.C. 3701-3720E (2000)), the civil penalty owed under this Order accrues interest as more fully described in the attached Notice, and, if payment is not made by the due date specified herein, Jiang will be assessed, in addition to the full amount of the civil penalty and interest, a penalty charge and an administrative charge, as more fully described in the attached Notice.

Third, that the timely payment of the civil penalty set forth above is hereby made a condition to the granting, restoration, or continuing validity of any export license, license exception, permission, or privilege granted, or to be granted, to Jiang. Accordingly, if Jiang should fail to pay the civil penalty in a timely manner, the undersigned may enter an Order denying all of Jiang's export privileges under the Regulations for a period of one year from the date of entry of this Order.

Fourth, that for a period of five years from the date of entry of this Order, Qing Chang Jiang, 10677 C Rosewood Road, Cupertino, CA 95014, and, when acting for or on behalf of Jiang, his representatives, agents, assigns, or employees, (“Denied Person”) may not participate, directly or indirectly, in any way in any transaction involving any commodity, software, or technology (hereinafter collectively referred to as “item”) exported or to be exported from the United States that is subject to the Regulations, or in any other activity subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefiting in any way from any transaction involving any item exported or to be exported from the United States that is subject to the Regulations, or in any other activity subject to the Regulations.

Fifth, that no person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Sixth, that, after notice and opportunity for comment as provided in Section 766.23 of the Regulations, any person, firm, corporation, or business organization related to Jiang by affiliation, ownership, control, or position of responsibility in the conduct of trade or related services may also be made subject to the provisions of the Order.

Seventh, that this Order does not prohibit any export, reexport, or other transaction subject to the Regulations where the only items involved that are subject to the Regulations are the foreign-produced direct product of U.S.-origin technology.

Eighth, that the charging letter, the Settlement Agreement, this Order, and the record of this case as defined by Section 766.20 of the Regulations shall be made available to the public.

Ninth, that the administrative law judge shall be notified that this case is withdrawn from adjudication.

Tenth, that this Order shall be served on the Denied Person and on BIS, and shall be published in the Federal Register.

This Order, which constitutes the final agency action in this matter, is effective immediately.

Dated: Entered this 6th day of August, 2007.
Darryl W. Jackson,
Assistant Secretary of Commerce for Export Enforcement.

[FR Doc. 07-4035 Filed 8-16-07; 8:45 am]

BILLING CODE 3510-DT-M